INTERNATIONAL TRADE COMMISSION

[Inv. No. 337-TA-494]

In the Matter of Certain Automotive Measuring Devices, Products Containing Same, and Bezels for Such Devices; Notice of Commission Decision Not To Review Three Initial Determinations Terminating the Investigation as to Three Respondents on the Basis of Consent Orders; Issuance of Consent Orders

AGENCY: U.S. International Trade Commission.

ACTION: Notice.

SUMMARY: Notice is hereby given that the U.S. International Trade Commission has determined not to review three initial determinations (“IDs”) issued by the presiding administrative law judge (“ALJ”) terminating the above-captioned investigation as to respondents GR Motorsports Inc., d/b/a Matrix GR Motorsports, Inc. of Commerce, California (“GR Motorsports”), Hiper Industries Inc. d/b/a R-1 Racing-Sports, Inc. of Garden Grove, California (“Hiper”), and J & P Hamilton Enterprises, Inc. of Winder, Georgia (“J & P”) (including two companies that J & P owns and does business as, PointZero Gauge Company (“PointZero”) and QuickCar Racing Products (“QuickCar”) of Winder, Georgia, which were listed among the respondents in the notice of investigation) on the basis of consent orders.

FOR FURTHER INFORMATION CONTACT: Michael Liberman, Esq., Office of the General Counsel, U.S. International Trade Commission, 500 E Street, SW., Washington, DC 20436, telephone (202) 205-3115. Copies of the ALJ's ID and all other nonconfidential documents filed in connection with this investigation are or will be available for inspection during official business hours (8:45 a.m. to 5:15 p.m.) in the Office of the Secretary, U.S. International Trade Commission, 500 E Street, SW., Washington, DC 20436, telephone (202) 205-2000. Hearing-impaired persons are advised that information on this matter can be obtained by contacting the Commission's TDD terminal on (202) 205-1810. General information concerning the Commission may also be obtained by accessing its Internet server (http://www.usitc.gov). The public record for this investigation may be viewed on the Commission's electronic docket (EDIS) at http://edis.usitc.gov.

SUPPLEMENTARY INFORMATION: The Commission issued a notice of investigation dated June 16, 2003, naming Auto Meter Products, Inc. (“Auto Meter”) of Sycamore, Illinois, as the complainant and several companies as respondents. On June 20, 2003, the notice of investigation was published in the Federal Register. 68 FR 37023. The complaint alleged violations of section 337 of the Tariff Act of 1930 in the importation and sale of certain automotive measuring devices, products containing same, and bezels for such devices, by reason of infringement of U.S. Registered Trademark Nos. 1,732,643 and 1,497,472, and U.S. Supplemental Register No. 1,903,908, and infringement of the complainant's trade dress. Subsequently, seven more firms were added as respondents based on two separate motions filed by complainant.

On April 21, 2004, the ALJ issued three IDs (Orders Nos. 20, 21, and 22) terminating the investigation as to respondents GR Motorsports, Hiper, and J & P (“terminated respondents”) (including two companies that J & P owns and does business as, PointZero and QuickCar of Winder, Georgia, which were listed among the respondents in the notice of investigation) on the basis of the settlement agreements and consent orders. With regard to the terminated respondents, the ALJ observed that each of them filed a joint (together with complainant Auto Meter) motion to terminate based on settlement agreements between each of the terminated respondents and Auto Meter, and proposed consent orders. The Commission investigative attorney filed responses in support of each of the joint motions. No petitions for review of the IDs were filed.

The authority for the Commission's determination is contained in section 337 of the Tariff Act of 1930, as amended (19 U.S.C. 1337), and in section 210.42 of the Commission's Rules of Practice and Procedure (19 CFR 210.42).

Issued: May 19, 2004.
By order of the Commission.
Marilyn R. Abbott,
Secretary to the Commission.

[FR Doc. 04-11863 Filed 5-25-04; 8:45 am]

BILLING CODE 7020-02-P